DEPARTMENT OF THE INTERIOR

Bureau of Land Management

[UT050-1610-012J]

Notice of Availability of the Draft Resource Management Plan (DRMP) and Draft Environmental Impact Statement (DEIS) for the Richfield Field Office in Garfield, Piute, Sanpete, Sevier, and Wayne Counties, UT

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) hereby gives notice that the Richfield Draft Resource Management Plan and Draft Environmental Impact Statement (DRMP/DEIS) is available for a 90-day public review and comment period. This notice also meets requirements in part 1610, 7-2(b) concerning potential Areas of Critical Environmental Concern (ACECs).

DATES: To ensure that they will be considered, BLM must receive written comments on the DRMP/DEIS within 90 days following the date the Environmental Protection Agency publishes its notice of availability in the Federal Register. The BLM will announce public meetings and other public-involvement activities at least 15 days in advance through public notices, news releases, direct mailings, and on the project Web site at: http://www.blm.gov/rmp/ut/richfield/. Public meetings will be held in Junction, Loa, Manti, Richfield, and Salt Lake City, and in other locations if warranted.

ADDRESSES: Address written comments to: RMP Comments, Richfield Field Office, Bureau of Land Management (BLM), 150 East 900 North, Richfield, Utah 84701. Comments may also be faxed to the Field Office at 435-896-1550, or submitted electronically by e-mail: UT_Richfield_Comments@blm.gov. Comments and information submitted on the Supplement to the Vernal Field Office DRMP/DEIS, including names, e-mail addresses, and street addresses of respondents, will be available for public review and disclosure at the Vernal Field Office address listed below. The BLM will not accept anonymous comments. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: For further information, or to have your name added to the Richfield RMP mailing list, visit the RMP Web site: http://www.blm.gov/rmp/ut/richfield/. Or, you may contact Cornell Christensen, RMP Project Manager, Richfield BLM Field Office, 150 East 900 North, Richfield, Utah 84701, phone 435-896-1532. The DRMP/DEIS can be viewed and downloaded in portable document format (PDF) at the project Web site: http://www.blm.gov/rmp/ut/richfield/. Copies of the DRMP/DEIS are also available at the Bureau of Land Management (BLM) Richfield Field Office.

SUPPLEMENTARY INFORMATION: The DRMP/DEIS addresses public lands and resources managed by the Richfield Field Office in Garfield, Piute, Sanpete, Sevier, and Wayne Counties, Utah. These lands and resources are currently managed under six old land use plans: Cedar-Beaver-Garfield-Antimony RMP (1986), Forest Management Framework Plan (MFP) (1982), Henry Mountains MFP (1982), Mountain Valley MFP (1981), Parker Mountain MFP (1983), and San Rafael RMP (1991). The planning area includes approximately 2.1 million acres of BLM-administered surface lands and additional Federally-owned minerals under Federal, state, and private lands in the area. Decisions in the Richfield RMP will only apply to BLM-administered public lands and Federally-owned minerals. The DRMP/DEIS proposes and analyzes five alternatives for future management of the public lands and resources in the planning area. Alternative B is BLM's proposed action and the preferred alternative. Major issues considered in the DRMP/DEIS include oil and gas leasing, mining, range and livestock management, access and transportation, recreation and off-highway vehicle management, special status species, special designations (including Areas of Critical Environmental Concern [ACECs] and wild and scenic rivers), and lands with wilderness characteristics, among others. When completed, the new RMP will replace management decisions in the existing land use plans. As required by law, the DRMP/DEIS considers the designation and protection of ACECs. ACEC values and resource use limitations vary by ACEC, and the ACECs themselves vary by alternative. See table below.

Acres of Public Land To Be Managed as ACECs Under the Alternatives in the Richfield DRMP/DEIS
Values and use limitations | Alt. N (no action) | Alt. A | Alt. B (preferred) | Alts. C and D
Badlands ACEC Values: Outstanding scenery, special status species, natural processes (wind erosion), riparian areas, relict vegetation. Limitations: Designate scenic areas outside Wilderness study Areas (WSAs) as Visual Resource Management (VRM) II, limit or close to Off-Highway Vehicle (OHV) use, close to oil and gas leasing, propose withdrawal from mineral entry | 0 | 0 | 0 | 88,900.
Beaver Wash ACEC Values: Desert riparian community. Limitations: Close to OHV use, close to oil and gas leasing, close to livestock grazing, propose withdrawal from mineral entry | 3,400 | 0 | 0 | (Included in Dirty Devil/North Wash ACEC).
Bull Creek ACEC Value: Cultural resources. Limitations: Limit off-highway vehicles to designated routes | 0 | 0 | 0 | 4,800.
Dirty Devil/North Wash ACEC: Values: Outstanding scenery, cultural resources, paleontological resources, wildlife, special status species, relict vegetation, riparian areas. Limitations: Designate scenic areas outside WSAs as VRM II, close to oil and gas leasing or lease with no surface occupancy and propose withdrawal from mineral entry. Permit no domestic sheep grazing. Close to OHV use or limit to designated routes | 0 | 0 | 0 | 205,300.
Fremont Gorge/Cockscomb Values ACEC: Cultural resources, outstanding scenery, riparian areas, special status plant species, wildlife. Limitations: Designate scenic areas outside WSAs as VRM II, open to oil and gas leasing with no surface occupancy and propose withdrawal from mineral entry. Close to OHV or limit to designated routes | 0 | 0 | 0 | 34,300.
Gilbert Badlands ACEC Values: Badlands geology. Limitations: Close to OHV use, designate open to oil and gas leasing with no surface occupancy, and propose withdrawal from mineral entry | 3,700 | 0 | 0 | (Included in Badlands ACEC).
Henry Mountains ACEC Values: Outstanding scenery, cultural resources, wildlife, special status species, ecological values, riparian areas. Limitations: Designate scenic areas outside WSAs as VRM II, close to off-highway vehicles or limit to designated routes, close to oil and gas leasing, and propose withdrawal from mineral entry | 0 | 0 | 0 | 288,200.
Horseshoe Canyon ACEC Values: Outstanding scenery, cultural resources, special status species, riparian areas. Limitations: Designate scenic areas outside WSAs as VRM II, open to oil and gas leasing with no surface occupancy, and propose withdrawal from mineral entry | 0 | 0 | 0 | 40,900.
Kingston Canyon ACEC Values: Wildlife habitat and riparian areas. Limitations: Limit off-highway vehicles to designated routes and suppress unwanted fires | 0 | 0 | 0 | 22,100.
Little Rockies ACEC Values: Outstanding scenery, wildlife, special status species, riparian areas. Limitations: Designate scenic areas outside WSAs as VRM II, open to oil and gas leasing with no surface occupancy and propose withdrawal from mineral entry. Change class of livestock from sheep to cattle | 0 | 0 | 0 | 49,200.
Lower Muddy Creek ACEC Values: Outstanding scenery, special status plants, riparian areas. Limitations: Designate scenic areas as VRM Class II and close to oil and gas leasing | 0 | 0 | 0 | 16,200.
No Man Mesa ACEC Value: Relict vegetation. Limitations: Close to OHV use, close to oil and gas leasing, and propose withdrawal from mineral entry | 0 | 0 | 0 | (Included in Henry Mountains ACEC).
North Caineville Mesa ACEC Value: Relict vegetation. Limitations: Close to OHV use, open to oil and gas leasing with no surface occupancy, close to livestock grazing, identify as unsuitable for coal leasing, and propose withdrawal from mineral entry | 3,800 | 0 | 3,800 | (Included in Badlands ACEC).
Old Woman Front ACEC Value: Relict vegetation. Limitations: Close to livestock grazing, close to OHV use, close to oil and gas leasing and propose withdrawal from mineral entry | 0 | 0 | 330 | 330.
Parker Mountain ACEC Value: Sagebrush-steppe habitat, special status species. Limitations: Limit off-highway vehicles to designated routes, suppress unwanted wildfires, and implement proper grazing practices | 0 | 0 | 0 | 107,900.
Quitchupah Creek ACEC Values: Cultural resources, Native American values, riparian areas. Limitations: Limit off-highway vehicles to designated routes | 0 | 0 | 0 | 180.
Rainbow Hills ACEC Values: Wildlife habitat and special status plants. Limitations: Suppress unwanted wildfires, close to OHV use, and open to oil and gas leasing with no surface occupancy | 0 | 0 | 0 | 4,000.
Sevier Canyon ACEC Values: Wildlife habitat, special status species, riparian areas. Limitations: Suppress unwanted wildfires, limit off-highway vehicles to designated routes and close routes seasonally | 0 | 0 | 0 | 8,900.
South Caineville Mesa ACEC Value: Relict vegetation. Limitations: Close to OHV use, open to oil and gas leasing with no surface occupancy, close to livestock grazing, propose withdrawal from mineral entry | 5,300 | 0 | 0 | (Included in Badlands ACEC).
Special Status Species ACEC Values: Special Status Species and habitat. Limitations: Close or limit OHV use to designated routes and open to oil and gas leasing with controlled surface use stipulations | 0 | 0 | 0 | 15,100.
Thousand Lake Bench ACEC Values: Cultural resources, special status plants and riparian areas. Limitations: Close to off-highway vehicles or limit to designated routes | 0 | 0 | 0 | 500.
Total | 16,200 | 0 | 4,130 | 886,810.

The application of the Federal coal unsuitability criteria to the Henry Mountains and Emery Coal Fields is included in Appendix 8 of the DRMP/DEIS. As required by 43 CFR 3461.2-1(a)(2), the public is invited to comment on the results of the application of the criteria and the application process used. The criteria are listed under 43 CFR 3461.5. Additionally, the BLM will conduct a public hearing on coal leasing potential in the DRMP/DEIS before it is finalized, if such a hearing is requested by any person who may be adversely affected by adoption of the proposed plan.

Selma Sierra,
Utah State Director.

[FR Doc. 07-5283 Filed 10-25-07; 8:45 am]

BILLING CODE 4310-DK-P